NUCLEAR REGULATORY COMMISSION

[Docket No. 50-255; NRC-2024-0123]

Holtec Palisades, LLC; Holtec Decommissioning International, LLC; Palisades Nuclear Plant; Petition

AGENCY: Nuclear Regulatory Commission.

ACTION: 10 CFR 2.206 request; receipt.

SUMMARY: The U.S. Nuclear Regulatory Commission (NRC) is giving notice that by petition dated December 5, 2023, Beyond Nuclear, Michigan State Energy Future, and Don't Waste Michigan (the petitioners) filed a petition to intervene and a request for hearing on a proceeding to exempt the Palisades Nuclear Power Plant (Palisades) from certain requirements in NRC regulations. In denying the request for hearing, the Commission referred Contention 2 of the request, regarding the misuse of decommissioning funds, to the enforcement petition process under NRC regulations. The petitioner's requests are included in the SUPPLEMENTARY INFORMATION section of this document.

DATES: July 9, 2024.

ADDRESSES: Please refer to Docket ID NRC-2024-0123 when contacting the NRC about the availability of information regarding this document. You may obtain publicly available information related to this document using any of the following methods:

• Federal Rulemaking Website: Go to https://www.regulations.gov and search for Docket ID NRC-2024-0123. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: James S. Kim, Office of Nuclear Reactor Regulation, U.S. Nuclear Regulatory Commission, Washington, DC 20555-0001; telephone: 301-415-4125; email: James.Kim@nrc.gov.

SUPPLEMENTARY INFORMATION: On September 28, 2023, Holtec Decommissioning International, LLC (Holtec), on behalf of Holtec Palisades, LLC, submitted a request (ADAMS Accession No. ML23271A140) to exempt the Palisades Nuclear Power Plant (Palisades) from certain requirements in section 50.82 of title 10 of the Code of Federal Regulations (10 CFR), “Termination of license.” On December 5, 2023, the petitioners filed a petition to intervene and a request for hearing on this exemption proceeding (ADAMS Accession No. ML23339A192). In denying the request for hearing (ADAMS Accession No. ML23352A325), the Commission referred Contention 2 of the request, regarding the misuse of decommissioning funds, to the enforcement petition process under 10 CFR 2.206, “Requests for action under this subpart.”

The underlying concern in Contention 2 of the December 5, 2023, request is that “Holtec misused the decommissioning trust fund (DTF) to keep Palisades in a status to restart the reactor, rather than to decommission the plant.” The petitioners cited 10 CFR 50.82(a)(8) regarding appropriate uses of the DTF. Specifically, the petition to intervene asserted that:

1. Holtec expended $44 million from the Palisades DTF from June 28 to December 31, 2022 (ADAMS Accession No. ML23090A140).

2. Holtec continued improper utilization of Palisades DTF from December 31, 2022, to present.

The NRC staff assembled a Petition Review Board (PRB) in accordance with NRC Management Directive (MD) 8.11, “Review Process for 10 CFR 2.206 Petitions,” and its associated Directive Handbook 8.11, Section III (ADAMS Accession No. ML18296A043). On February 29, 2024 (ADAMS Accession No. ML24061A014), the petition manager informed the petitioners that the PRB's initial assessment was to not accept the petition for review. The PRB's position was that the petition did not meet the MD 8.11 criteria for accepting petitions under 10 CFR 2.206 because the issues raised regarding Holtec's use of the Palisades DTF in 2022 had already been addressed through the NRC's inspection and enforcement process.

In August and November 2023 (ADAMS Accession No. ML23276B452 and ADAMS Accession No. ML24045A147, respectively), the NRC completed inspections that addressed, in part, the use of the Palisades DTF. As a result of these inspections, the NRC identified several instances, totaling just over $57,000, in which the licensee used the Palisades DTF to pay for activities not considered legitimate decommissioning expenses per the definition in 10 CFR 50.2, “Definitions.”

The NRC confirmed that the unauthorized reimbursements from the Palisades DTF were the result of inadvertent oversights and/or inattention to detail in the coding associated with the billing for various projects and community donations. The licensee has implemented several process revisions to address order coding modification issues/errors, as well as training to eliminate these issues from future DTF expenditures. In February 2024, the NRC issued Holtec a Severity Level IV Non-Cited Violation to address the illegitimate use of decommissioning funds at Palisades (ADAMS Accession No. ML24045A147).

On February 29, 2024, along with the initial assessment, the petition manager offered the petitioners an opportunity to address the PRB in a public meeting. This meeting was held on April 10, 2024. The transcript of that meeting is publicly available in ADAMS under Accession No. ML24114A016 and is considered a supplement to the petition. During the April 10, 2024, meeting, the petitioners discussed DTF expenditures of $120 million noted in the 2023 Decommissioning Funding Status Report for Palisades, which was submitted to the NRC on March 29, 2024 (ADAMS Accession No. ML24089A117). The petitioners also raised concerns about whether the $120 million was properly used for decommissioning expenditures in accordance with the current NRC requirements and guidance.

Following the April 10, 2024, public meeting, the PRB met to consider what had been presented during the meeting. The PRB found that the issues regarding use of the Palisades DTF in 2022 have been addressed through the inspection and enforcement process, as previously mentioned in this notice. Therefore, the PRB is not accepting those issues into the 10 CFR 2.206 process. The concerns the petitioners raised at the public meeting regarding the recently submitted 2023 expenditure report for Palisades involve new information that has not yet been fully considered by the NRC. Therefore, in accordance with MD 8.11, Section III.C, the PRB is accepting that portion of the petitioner's concern into the 10 CFR 2.206 process for further review. However, the PRB is holding the petition review in abeyance until the NRC's review of the 2023 expenditure report for Palisades is complete, as it is relevant to the decision on the 10 CFR 2.206 petition.

Dated: July 2, 2024.
For the Nuclear Regulatory Commission.
Michael King,
Deputy Office Director, Office of Nuclear Reactor Regulation.

[FR Doc. 2024-14953 Filed 7-8-24; 8:45 am]

BILLING CODE 7590-01-P